DEPARTMENT OF TRANSPORTATION

Federal Aviation Administration

[Docket No. FAA-2020-0661]

Agency Information Collection Activities: Requests for Comments; Clearance of Renewed Approval of Information Collection: General Operating and Flight Rules FAR 91 and FAR 107

AGENCY: Federal Aviation Administration (FAA), DOT.

ACTION: Notice and request for comments.

SUMMARY: In accordance with the Paperwork Reduction Act of 1995, FAA invites public comments about our intention to request Office of Management and Budget (OMB) approval to renew an information collection. The collection involves information required to process a request for a Minimum Equipment List (MEL) Letter of Authorization (LOA) in accordance with certain regulations prescribing general operating and flight rules. The information to be collected is necessary because a written request is required to obtain an MEL LOA. The information collected includes only those details essential to evaluate the request, approve the MEL, and issue the LOA.

DATES: Written comments should be submitted by September 8, 2020.

ADDRESSES: Please send written comments:

By Electronic Docket: www.regulations.gov (Enter docket number into search field).

By mail: Dwayne C. Morris, 800 Independence Ave. SW, Washington, DC 20591.

By fax: 202-267-1078.

FOR FURTHER INFORMATION CONTACT: John Attebury by email at: john.h.attebury@faa.gov; phone: 281-443-5862.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0005.

Title: General Operating and Flight Rules FAR 91 and FAR 107.

Form Numbers: None.

Type of Review: Renewal.

Background: A person who desires to operate an aircraft with inoperative instruments or equipment under the provisions of 14 CFR 91.213(a) must receive approval for their minimum equipment list and be issued an LOA to use that MEL. The person must submit the MEL for approval along with a written request for an LOA to the responsible Flight Standards office. The information collected includes only those details essential to evaluate the request, approve the MEL, and issue the LOA. This information includes the aircraft operator's name and address, the name and telephone number or email address of the person responsible for aircraft operations, aircraft make, model, series, aircraft registration number, aircraft serial number, the proposed MEL, and nonessential equipment and furnishings list, if applicable.

The FAA currently issues MEL approvals under the provisions of § 91.213(a) through two methods: (1) D095 LOA and (2) D195 LOA. The FAA is simplifying § 91.213(a) MEL approvals by transitioning to one method of approval, LOA D195, and streamlining the application and approval process to reduce regulatory costs, burdens, and delays. While developing this new § 91.213(a) LOA policy, the FAA discovered that approval for information collection was inadvertently overlooked during the § 91.213 rulemaking process. We now seek to remedy that omission.

Respondents: Approximately 2,638 aircraft operators of U.S.-registered aircraft who desire to operate under 14 CFR 91.213(a).

Frequency: One time for the initial request for MEL approval and LOA issuance, and thereafter for MEL revision.

Estimated Average Burden per Response: 20 hours for initial approval; 4 hours for revision

Estimated Total Annual Burden: We estimate the average annual burden for the first 10 years will be 38,792 hours. Due to implementation of new MEL policy, we anticipate an annual burden of 55,392 hours for the first 5 years and 22,192 hours thereafter, resulting in a 10-year average of 38,792 hours per year. Our rationale follows:

The FAA Aerospace Forecast for Fiscal Years 2020-2040 projects the general aviation fleet to decline slightly, rounded up to an average of 0% change annually. Therefore, we will use the current average of 1308 part 91 MEL LOAs issued per year. Over the past 4 years, 81% of these LOAs were for initial MEL approval and 19% were for MEL revision. We estimate a 20 hour burden for an initial MEL request and a 4 hour burden for an MEL revision. This results in an annual burden of 22,192 hours.

1,308 × 81% = 1,060; 1,060 × 20 hours = 21,200 hours

1,308 × 19% = 248; 248 × 4 hours = 992 hours

21,200 hours + 992 hours = 22,192 hours

Additionally, there are 8,300 active D095 LOAs. The new FAA policy will phase out the use of D095 over five years. Holders of D095 LOAs who wish to operate under § 91.213(a) must request D195 LOA issuance. Therefore, on average, for the first 5 years, we anticipate an additional 1,660 MEL LOA requests. These would all be initial MEL requests and result in an additional 33,200 hours each year for the first 5 years.

1,660 × 20 hours = 33,200 hours

Therefore, for the first 5 years, we anticipate an annual burden of 55,392 hours (22,192 + 33,200) and 22,192 hours thereafter, resulting in an average of 38,792 hours per year.

Issued in Washington, DC, on July 7, 2020.
Dwayne C. Morris,
Project Manager, Flight Standards Service, General Aviation and Commercial Division.

[FR Doc. 2020-14952 Filed 7-9-20; 8:45 am]

BILLING CODE 4910-13-P